DEPARTMENT OF ENERGY

Federal Energy Regulatory Commission

Notice of Staff Attendance at North American Electric Reliability Corporation Standard Drafting Team Meeting

The Federal Energy Regulatory Commission hereby gives notice that members of the Commission and/or Commission staff may attend the following meeting:

North American Electric Reliability Corporation Project 2021-07 Extreme Cold Weather Grid Operations, Preparedness, and Coordination Standard Drafting Team Virtual Meeting on: March 9, 2023 (1:00 p.m.-2:30 p.m. eastern time)

Further information regarding these meetings may be found at: http://www.nerc.com/Pages/Calendar.aspx.

The discussions at the meetings, which are open to the public, may address matters at issue in the following Commission proceeding:

Docket No. RD23-1-000 Extreme Cold Weather Reliability Standards EOP-011-3 and EOP-012-1

For further information, please contact Chanel Chasanov, 202-502-8569, or chanel.chasanov@ferc.gov.

Dated: March 1, 2023.
Kimberly D. Bose,
Secretary.

[FR Doc. 2023-04675 Filed 3-7-23; 8:45 am]

BILLING CODE 6717-01-P